DEPARTMENT OF THE INTERIOR

Fish and Wildlife Service

[FWS-R4-ES-2009-N0067; 40120-1113-0000-C2]

Technical Agency Draft Recovery Plan for the Endangered St. Andrew Beach Mouse

AGENCY: Fish and Wildlife Service, Interior.

ACTION: Notice of document availability and opening of public comment period.

SUMMARY: We, the U.S. Fish and Wildlife Service, announce the availability of the technical agency draft recovery plan for the St. Andrew beach mouse (Peromyscus polionotus peninsularis). This technical agency draft recovery plan includes specific recovery objectives and criteria to be met in order to reclassify this species to threatened status and delist it under the Endangered Species Act of 1973, as amended (Act). We request review and comment on this technical agency draft recovery plan from local, State, and Federal agencies, and the public.

DATES: In order to be considered, comments on the technical agency draft recovery plan must be received on or before June 22, 2009.

ADDRESSES: If you wish to review this technical agency draft recovery plan, you may obtain a copy by contacting Janet Mizzi, U.S. Fish and Wildlife Service, 1601 Balboa Ave, Panama City, FL 32405, tel. (850) 769-0552, or by visiting either the Service's recovery plan Web site at http://endangered.fws.gov/recovery/index.html#plans or the Panama City Field Office Web site at http://www.fws.gov/panamacity/. If you wish to comment, you may submit your comments by one of the following methods:

1. You may submit written comments and materials to Janet Mizzi, at the above address.

2. You may hand-deliver written comments to our Panama City Field Office, at the above address.

3. You may fax your comments to (850) 763-2177.

4. You may send comments by e-mail to janet_mizzi@fws.gov. For directions on submitting comments electronically, see the “Public Comments Solicited” section.

FOR FURTHER INFORMATION CONTACT: Janet Mizzi at the above addresses or telephone: (850) 769-0552, ext. 247.

SUPPLEMENTARY INFORMATION:

Background

The St. Andrew beach mouse was listed as endangered on December 18, 1998 (63 FR 70053). The St. Andrew beach mouse is one of five subspecies of beach mice that inhabit the northern Gulf of Mexico coast (James 1992). Beach mice are fossorial creatures that inhabit the complex of coastal dune systems composed of the primary and secondary dunes and adjacent inland scrub dunes (Blair 1951, Bowen 1968, Holliman 1983, Holler 1992, James 1992, Moyers et al. 1996, Sneckenberger 2001). The beach mouse subspecies are differentiated from each other by their non-overlapping geographic distributions and pelage coloration (Hipes et al. 2000).

Currently, there are only two known core populations of the St. Andrew beach mouse, which occur in Bay and Gulf counties, Florida. Threats to the St. Andrew beach mouse include habitat loss/alteration from land development and associated human use, hurricanes and other tropical storm events, non-native predators, and recreational activity associated with development and tourism, that weaken and encroach on the dune ecosystem. Availability of suitable habitat may be a limiting factor during periods of population expansion or following catastrophic weather events.

A primary goal of the endangered species program is to restore an endangered or threatened species to the point where it is again a secure, self-sustaining member of its ecosystem and protection under the Act is no longer necessary. Recovery plans are developed, for most listed species, to help guide this process. Within these plans we define measurable criteria that are used as benchmarks for downlisting or delisting the species. To achieve these benchmarks, the recovery plans describe actions considered necessary for conservation of the species and the time and costs estimates associated with implementing these recovery measures. The status of the species will be reviewed and it will be considered for removal from the Federal List of Endangered and Threatened Wildlife and Plants (50 CFR part 17) when the recovery criteria are met.

The Act requires the development of recovery plans for listed species, unless such a plan would not promote the conservation of a particular species. Section 4(f) of the Act requires us to provide a public notice and an opportunity for public review and comment during recovery plan development. We will consider all information presented during a public comment period prior to approval of each new or revised recovery plan. We and other Federal agencies will take these comments into account in the course of implementing approved recovery plans.

Request for Public Comments

We will consider all comments received by the date specified above prior to final approval of the recovery plan.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Dated: March 25, 2009.
Ed Buskirk,
Acting Regional Director, Southeast Region.

[FR Doc. E9-9178 Filed 4-21-09; 8:45 am]

BILLING CODE 4310-55-P